DEPARTMENT OF THE INTERIOR

Bureau of Indian Affairs

Proclaiming Certain Lands as Reservation for the Lytton Rancheria of California

AGENCY: Bureau of Indian Affairs, Interior.

ACTION: Notice of reservation proclamation.

SUMMARY: The Assistant Secretary—Indian Affairs proclaimed approximately 9.53 acres, more or less, as an addition to the reservation of the Lytton Rancheria of California on June 29, 2004. This notice is published in the exercise of authority delegated by the Secretary of the Interior to the Principal Deputy Assistant Secretary—Indian Affairs by 209 DM 8.1.

FOR FURTHER INFORMATION CONTACT: Ben Burshia, Bureau of Indian Affairs, Division of Real Estate Services, Office of the Deputy Bureau Director—Trust Services, MS-4512/MIB/Code 220, 1849 C Street, NW., Washington, DC 20240, telephone (202) 219-1195.

SUPPLEMENTARY INFORMATION: A proclamation was issued by virtue of the authority contained in Section 819 of the Omnibus Indian Advancement Act, Public Law 106-568, and pursuant to the authority delegated to the Principal Deputy Assistant Secretary—Indian Affairs under 209 DM 8.1, to the following described trust lands:

The trust lands described in that certain Grant Deed, dated October 8, 2003, by and between Sonoma Entertainment Investors, L.P., a Pennsylvania limited partnership, and United States of America, in trust for the benefit of the Lytton Rancheria of California, a federally recognized Indian tribe, which Grant Deed was approved by the United States of America on October 9, 2003, and recorded on October 9, 2003, in the official records of Contra Costa County Recorder Office, Contra Costa, California, as Document No. 2003-0506433-00 (Trust Lands).

The Trust Lands are proclaimed to be an addition to and part of the reservation of the Lytton Rancheria of California under sections 5 and 7 of the Act of June 18, 1934 (48 Stat. 985; 25 U.S.C. § 467). The Trust Lands are further proclaimed to be held in trust and part of the reservation of the Lytton Rancheria of California before October 17, 1988.

This proclamation does not affect title to the land described above, nor does it affect any valid existing easements for public roads and highways, public utilities and for railroads and pipelines and any other rights-of-way or reservations of record.

Dated: June 29, 2004.
Aurene M. Martin,
Principal Deputy Assistant Secretary—Indian Affairs.

[FR Doc. 04-15820 Filed 7-12-04; 8:45 am]

BILLING CODE 4310-W7-P